Title 3—

The President

Proclamation 8439 of October 15, 2009

White Cane Safety Day, 2009

By the President of the United States of America

A Proclamation

All Americans deserve the freedom to participate in every aspect of our society and pursue their full measure of happiness. For blind Americans, the white cane is a potent symbol of that freedom—affording them greater independence and mobility. Today we renew our commitment to provide full inclusion and equal opportunities for those among us who are blind or have low vision. As Americans, we must nurture a society that values the unique abilities and individual contributions of all its people.

Individuals who are blind or have low vision are less constrained and better integrated in our country than ever before, but much work remains to ensure they have the opportunity to reach their full potential. My Administration is committed to securing full and equal access to education and employment for blind Americans and all those with disabilities. The American Recovery and Reinvestment Act substantially increased funding for the Individuals with Disabilities Education Act, as well as vocational rehabilitation services, including job training, education, and placement.

For Americans who are blind or have low vision, a white cane is just one of a wide range of tools that sustain independence and productivity. In recent years, refreshable Braille displays and speech synthesis devices have given these individuals access to the Internet, unlocking a new frontier of limitless possibility. As we encourage the development of new assistive technologies, we must also improve access to existing tools. The Braille code has opened a doorway to literacy for countless individuals, but far too many blind children in our country are not learning to read it. By improving Braille literacy, we will secure a brighter future for these young Americans.

In the 45 years since White Cane Safety Day was first proclaimed by President Lyndon Johnson, Americans who are blind or have low vision have achieved substantial progress. As leaders in government and business, academics, and the arts, they have made remarkable contributions to our Nation, proving that sight is no requisite for success. We will continue to strive for a more just and equitable Nation that celebrates diversity in all its forms and promotes the full inclusion of all individuals in our communities.

By joint resolution approved on October 6, 1964 (Public Law 88-628, as amended), the Congress designated October 15 of each year as White Cane Safety Day to recognize the contributions of Americans who are blind or have low vision.

NOW, THEREFORE, I, BARACK OBAMA, President of the United States of America, do hereby proclaim October 15, 2009, as White Cane Safety Day. I call upon all Americans to observe this day with appropriate ceremonies, activities, and programs.

IN WITNESS WHEREOF, I have hereunto set my hand this fifteenth day of October, in the year of our Lord two thousand nine, and of the Independence of the United States of America the two hundred and thirty-fourth.

[FR Doc. E9-25409

Filed 10-19-09; 11:15 am]

Billing code 3195-W9-P